DEPARTMENT OF ENERGY

Federal Energy Regulatory Commission

18 CFR Parts 2 and 38

[Docket No. RM05-5-024; Order No. 676-H]

Standards for Business Practices and Communication Protocols for Public Utilities

AGENCY: Federal Energy Regulatory Commission, DOE.

ACTION: Final rule; notice of extension of time.

SUMMARY: Order No. 676-H, published on September 14, 2014, requires public utilities to comply with the incorporated Version 003 business practice standards by February 2, 2015 (former), with the exception of those standards related to the Network Integration Transmission Service (NITS) Open Access Same-Time Information System (OASIS) template, for which compliance is required by April 25, 2016 (latter). This document extends the afore-mentioned deadline to comply with requirements not related to the NITS OASIS template from February 2, 2015 to and including May 15, 2015.

DATES: Effective date: This rule is effective January 26, 2015.

Compliance date: Compliance with the Version 003 business practice standards not related to the NITS OASIS template, published in the rule of September 14, 2014 (79 FR 56939), is extended to and including May 15, 2015, for all entities subject to the requirement.

FOR FURTHER INFORMATION CONTACT:

Tony Dobbins (Technical Issues), Office of Energy Policy and Innovation, Federal Energy Regulatory Commission, 888 First Street NE., Washington, DC 20426, (202) 502-6630

Gary D. Cohen (Legal Issues), Office of the General Counsel, Federal Energy Regulatory Commission, 888 First Street NE., Washington, DC 20426, (202) 502-8321

SUPPLEMENTARY INFORMATION: In Order No. 676-H, the Federal Energy Regulatory Commission (Commission) amended its regulations to incorporate by reference, with certain enumerated exceptions, the latest version (Version 003) of the Standards for Business Practices and Communication Protocols for Public Utilities adopted by the Wholesale Electric Quadrant (WEQ) of the North American Energy Standards Board (NAESB) as mandatory enforceable requirements.¹ Order No. 676-H requires public utilities to comply with the incorporated Version 003 business practice standards by February 2, 2015, with the exception of those standards related to the NITS OASIS template, for which compliance is required by April 25, 2016. Several entities have requested a time extension for compliance with the February 2, 2015 implementation date.

¹ Standards for Business Practices and Communication Protocols for Public Utilities, 148 FERC ¶ 61,205 (2014).

Upon consideration of these requests for extension of time, the Commission will extend the requirement for compliance with the Version 003 business practice standards not related to the NITS OASIS template to and including May 15, 2015, for all entities subject to these requirements. All other compliance obligations set forth in Order No. 676-H remain in force. We will consider further requests for extension for particular standards in future orders.²

² For example, in Docket Nos. RM05-5-024 and ER15-550-000, the New York Independent System Operator, Inc., has requested a time extension for compliance with the NAESB standards involving Public Key Infrastructure (WEQ-012) to allow a 24 month compliance schedule.

Dated: January 15, 2015.
Kimberly D. Bose,
Secretary.

[FR Doc. 2015-01141 Filed 1-23-15; 8:45 am]

BILLING CODE 6717-01-P